ENVIRONMENTAL PROTECTION AGENCY

[FRL-7021-1]

Notice of Availability for Draft Guidance on Source Determinations for Combined Heat and Power Facilities Under the Clean Air Act New Source Review and Title V Programs

AGENCY: Environmental Protection Agency (EPA).

ACTION: Notice of availability.

SUMMARY: The EPA is making available for public review and comment a preliminary draft of its pending guidance on Source Determinations for Combined Heat and Power (CHP) Facilities under the Clean Air Act New Source Review and Title V Programs. The combined generation of heat and power, also known as cogeneration, has been an energy supply option for nearly 100 years and is used in many sectors of the economy. In light of ever increasing demand for energy, electric power industry restructuring and cross-program pollution prevention initiatives, EPA is committed to improving the efficiency at which we convert fuels into useful energy. Properly designed and implemented CHP is a key element to achieving the nation's energy goals, because CHPs are capable of independently providing power to the grid or customers other than the host facility and therefore can help alleviate power shortfalls. Recognizing this, the Report of the National Energy Policy Development Group recommends “that the President direct the EPA Administrator to promote CHP through flexibility in environmental permitting.”

A draft of EPA's guidance is available for public review and comment. The EPA does not intend to respond to individual comments, but rather to consider the comments from the public in the preparation of the final guidance. It is important that the draft guidance being made available today for public review and comment does not represent official EPA policy or a formal position on the subject matter discussed and therefore is not to be relied on in interpreting EPA policy.

DATES: The comment period on the draft guidance will close on November 14, 2001.

ADDRESSES: Written comments should be sent to Pamela J. Smith, Information Transfer and Program Integration Division (MD-12), Office of Air Quality Planning and Standards, U.S. EPA, Research Triangle Park, North Carolina 27711, telephone 919-541-0641, telefax 919-541-5509 or e-mail smith.pam@epa.gov.

FOR FURTHER INFORMATION CONTACT: Kathy Kaufman, Office of Air Quality Planning and Standards, U.S. EPA, MD-12, Research Triangle Park, NC 27711, telephone 919-541-0102 or e-mail kaufman.kathy@epa.gov.

SUPPLEMENTARY INFORMATION: A copy of the draft guidance document may be obtained by calling or E-mailing Pamela J. Smith. The draft guidance may also be downloaded from the NSR Web site http://www.epa.gov/ttn/nsr under the topic “What's New on NSR.”

Dated: July 18, 2001.
Henry C. Thomas,
Acting Director, Office of Air Quality Planning and Standards.

[FR Doc. 01-25864 Filed 10-12-01; 8:45 am]

BILLING CODE 6560-50-P